DEPARTMENT OF EDUCATION

Office of Elementary and Secondary Education

Improving Literacy Through School Libraries Program Overview Information; Notice Inviting Applications for New Awards for Fiscal Year (FY) 2004

Catalog of Federal Domestic Assistance (CFDA) Number: 84.364A

DATES: Applications Available: April 5, 2004.

Deadline for Notice of Intent to Apply: April 27, 2004.

Deadline for Transmittal of Applications: May 20, 2004.

Deadline for Intergovernmental Review: July 19, 2004.

Eligible Applicants: Local Educational Agencies (LEAs) in which at least 20 percent of the students served by the LEA are from families with incomes below the poverty line. A list of LEAs with their family poverty rates is posted on our Web site at: http://www.ed.gov/programs/lsl/eligibility.html.

Estimated Available Funds: $19.8 million.

Estimated Range of Awards: $30,000 to $350,000.

Note: Actual award amounts will be based on the number of schools and students served by the project.

Estimated Average Size of Awards: $100,000.

Estimated Number of Awards: 200.

Note: The Department is not bound by any estimates in this notice.

Project Period: 12 months.

FULL TEXT OF ANNOUNCEMENT

I. Funding Opportunity Description

Purpose of Program: The purpose of this program is to improve student reading skills and academic achievement by providing students with increased access to up-to-date school library materials; well-equipped, technologically advanced school library media centers; and well-trained, professionally certified school library media specialists.

Clarification of Eligible Local Activities: Applicants may propose professional development activities for school library media specialists that further the purposes of the program not only as related to preschool education, but also as related to education benefiting children in grades K-3. (See the notice of final clarification of eligible local activities for this program, published elsewhere in this issue of the Federal Register.)

Under this competition we are particularly interested in applications that address the following priority. Invitational Priority: For FY 2004 this priority is an invitational priority. Under 34 CFR 75.105(c)(1) we do not give an application that meets this invitational priority a competitive or absolute preference over other applications.

Under this priority the Secretary strongly encourages applicants to focus their efforts on elementary schools to maximize the impact of the project on improving reading achievement.

Program Authority: 20 U.S.C. 6383.

Applicable Regulations: (a) The Education Department General Administrative Regulations (EDGAR) in 34 CFR parts 75, 77, 79, 80, 81, 82, 84, 85, 97, 98 and 99. (b) The notice of final clarification of eligible local activities, published elsewhere in this issue of the Federal Register.

II. Award Information

Type of Award: Discretionary grants.

Estimated Available Funds: $19.8 million.

Estimated Range of Awards: $30,000 to $350,000.

Estimated Average Size of Awards: $100,000.

Note: Actual award amounts will be based on the number of schools and students served by the project.

Estimated Number of Awards: 200.

Note: The Department is not bound by any estimates in this notice.

Project Period: 12 months.

III. Eligibility Information

1. Eligible Applicants: LEAs in which at least 20 percent of the students served by the LEA are from families with incomes below the poverty line. A list of LEAs with their family poverty rates is posted on our Web site at: http://www.ed.gov/programs/lsl/eligibility.html.

2. Cost Sharing or Matching: This program does not involve cost sharing or matching, but does involve supplement-not-supplant funding provisions. Funds made available under this program shall be used to supplement, and not supplant, other Federal, State, and local funds expended to carry out activities relating to library, technology, or professional development activities (20 U.S.C. 6383(i)).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov. If you request an application from ED Pubs, be sure to identify this competition as follows: CFDA number 84.364A.

Individuals with disabilities may obtain a copy of the application package in an alternative format (e.g., Braille, large print, audiotape, or computer diskette) by contacting the program contact person listed under section VII of this notice.

You may obtain an application package for this program via the Internet at the following address: http://www.ed.gov/programs/lsl/applicant.html

2. Content and Form of Application Submission: Requirements concerning the content of an application, together with the forms you must submit, are in the application package for this program.

Notice of Intent to Apply: We strongly encourage each potential applicant to notify us by April 27, 2004 of your intent to submit an application for funding. We will be able to develop a more efficient process for reviewing grant applications if we have an estimate of the number of entities that intend to apply for funding under this competition. Notifications should be sent by e-mail to the following Internet address: LSL@ed.gov.

Please put “Notice of Intent” in the subject line. Applicants that do not provide this e-mail notification may still apply for funding.

Page Limit: The application narrative is where you, the applicant, address the selection criteria that reviewers use to evaluate your application. Applicants are strongly encouraged to limit the application narrative (text plus all figures, charts, tables, and diagrams) to the equivalent of no more than 15 pages, using the following standards:

• A “page” is 8.5″ x 11″, on one side only, with 1″ margins at the top, bottom, and both sides.

• Double space (no more than three lines per vertical inch) all text in the application narrative, including titles and headings, but excluding footnotes, quotations, references, and captions, as well as all text in charts, tables, figures and graphs.

• Use a font that is either 12 point or larger or no smaller than 10 pitch (characters per inch).

The page limit does not apply to the cover sheet; the budget section, including the budget narrative justification; the assurances and certifications; or the one-page abstract and the resumes.

3. Submission Dates and Times: Applications Available: April 5, 2004.

Deadline for Notice of Intent to Apply: April 27, 2004.

Deadline for Transmittal of Applications: May 20, 2004.

The dates and times for the transmittal of applications by mail or by hand (including a courier service or commercial carrier) are in the application package for this program. The application package also specifies the hours of operation of the e-Application Web site.

We do not consider an application that does not comply with the deadline requirements.

Deadline for Intergovernmental Review: July 19, 2004.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Instructions and requirements for the transmittal of applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications: We are continuing to expand our pilot project for electronic submission of applications to include additional formula grant programs and additional discretionary grant competitions. Improving Literacy Through School Libraries Program—CFDA Number 84.364A is one of the programs included in the pilot project. If you are an applicant under the Improving Literacy Through School Libraries Program, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the Improving Literacy Through School Libraries Program and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the persons listed elsewhere in this notice under For Further Information Contact (see VII. Agency Contact) or (2) the e-GRANTS help desk at 1-888-336-8930.

You may access the electronic grant application for The Improving Literacy Through School Libraries Program at: http://e-grants.ed.gov.

V. Application Review Information

1. Selection Criteria:

We use the following selection criteria to evaluate applications for new grants under this competition. The maximum score for all of these criteria is 100 points. The maximum score for each criterion is indicated in parentheses.

We evaluate an application by determining how well the proposed project meets the following criteria:

(a) Meeting the purpose of the statute (10 points). How well the proposed project addresses the intended outcome of the statute to improve student reading skills and academic achievement by providing students with increased access to up-to-date school library materials; a well-equipped, technologically advanced school library media center; and well-trained, professionally certified school library media specialists.

(b) Need for school library resources (10 points). How well the applicant demonstrates the need for school library media improvement, based on the age and condition of school library media resources, including: book collections; access of school library media centers to advanced technology; and the availability of well-trained, professionally certified school library media specialists, in schools served by the applicant.

(c) Use of funds (50 points). How well the applicant will use the funds made available through the grant to carry out one or more of the following activities that meet its demonstrated needs—

(1) Acquiring up-to-date school library media resources, including books.

(2) Acquiring and using advanced technology, incorporated into the curricula of the school, to develop and enhance the information literacy, information retrieval, and critical thinking skills of students.

(3) Facilitating Internet links and other resource-sharing networks among schools and school library media centers, and public and academic libraries, where possible.

(4) Providing professional development for school library media specialists, that improves literacy in grades K-3 as well as professional development for school library media specialists as described in section 1222(d)(2) of the ESEA (as described in the clarification of eligible local activities as published in the notice of final clarification of eligible local activities published elsewhere in this issue of the Federal Register) and providing activities that foster increased collaboration between school library media specialists, teachers, and administrators.

(5) Providing students with access to school libraries during non-school hours, including the hours before and after school, during weekends, and during summer vacation periods.

(d) Use of scientifically based research (10 points). How well the applicant will use programs and materials that are grounded in scientifically based research, as defined in section 9101(37) of the ESEA, in carrying out one or more of the activities described under criterion (c).

(e) Broad-based involvement and coordination (10 points). How well the applicant will extensively involve school library media specialists, teachers, administrators, and parents in the proposed project activities and effectively coordinate the funds and activities provided under this program with other literacy, library, technology, and professional development funds and activities.

(f) Evaluation of quality and impact (10 points).

How well the applicant will collect and analyze data on the quality and impact of the proposed project activities, including the extent to which the availability of, the access to, and the use of up-to-date school library media resources in the elementary schools and secondary schools served by the applicant were increased; and the impact on improving the reading skills of students.

2. Review and Selection Process: An additional factor we consider in selecting an application for an award is the equitable distribution of grants across geographic regions and among LEAs serving urban and rural areas. Contingent upon the availability of funds and the receipt of a sufficient number of high quality applications, we may make additional awards in FY 2005 from the rank-ordered list of unfunded applications from this competition.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary.

4. Performance Measures: In response to the Government Performance and Results Act(GPRA), the Department developed two measures for evaluating the overall effectiveness of the Improving Literacy Through School Libraries Program. These measures gauge improvement in student achievement and resources in the schools and districts served by the Improving Literacy Through School Libraries Program by assessing increases in: (1) The percentage of participating schools and districts that exceed state targets for reading achievement for all students; and (2) the school library media collections at participating schools, compared to schools not participating in the program.

The Department will collect data for these measures from grantees' annual performance reports and other existing data sources.

VII. Agency Contact

FOR FURTHER INFORMATION CONTACT: Irene Harwarth or Beth Fine, U.S. Department of Education, 400 Maryland Avenue, SW., room 2W104, Washington, DC, 20202-6200. Telephone: (202) 401-3751 (Irene Harwarth) or (202) 260-1091 (Beth Fine) or by e-mail: LSL@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 31, 2004.
Raymond J. Simon,
Assistant Secretary for Elementary and Secondary , Education.

[FR Doc. 04-7635 Filed 4-2-04; 8:45 am]

BILLING CODE 4000-01-P